DEPARTMENT OF LABOR

Mine Safety and Health Administration

Proposed Information Collection Request Submitted for Public Comment and Recommendations; Preparation and Maintenance of Accurate and Up-to-Date Certified Mine Maps for Surface and Underground Coal Mines; Submittal of Underground Mine Closure Maps; and Notification of MSHA Prior to Opening New Mines or the Reopening of Inactive or Abandoned Mines

ACTION: Notice; Extension of public comment period.

SUMMARY: The Department of Labor published a notice in the Federal Register on August 21, 2002 (67 FR 54233) requesting public comment concerning the proposed extension of the information collection related to the Record of Mine Closure addressed in 30 CFR 75.1204 and 75.1204-1; the inclusion of standards requiring MSHA notification and inspection prior to mining when opening a new mine or reopening an inactive or abandoned mine addressed in 30 CFR 75.373 and 75.1721; and the inclusion of standards requiring underground and surface mine operators to prepare and maintain accurate and up-to-date mine maps addressed in 30 CFR 75.1200, 75.1200-1, 75.1201, 75.1202, 75.1202-1, 75.1203, 75.372, 77.1200, 77.1201, and 77.1202. The comment period for this notice was to close on October 22, 2002.

In response to a request from the public, the comment period has been extended to November 30, 2002.

DATES: Submit comments on or before November 30, 2002.

ADDRESSES: Send comments to David L. Meyer, Director, Office of Administration and Management, 1100 Wilson Boulevard, Room 2125, Arlington, VA 22209-3939. Commenters are encouraged to send their comments on a computer disk, or via internet e-mail to Meyer-David@msha.gov, along with an original printed copy. Mr. Meyer can be reached at (202) 693-9802 (voice) or (202) 693-9801 (facsimile).

FOR FURTHER INFORMATION CONTACT: Jane E. Tarr, Management Analyst, Records Management Group, U.S. Department of Labor, Mine Safety and Health Administration, Room, 1100 Wilson Boulevard, Room 2171, Arlington, VA 22209-3939. Ms. Tarr can be contacted at Tarr-Jane@msha.gov (internet e-mail), (202) 693-9824 (voice), or (202) 693-9801 (facsimile).

Dated in Arlington, Virginia, this 18th day of October, 2002.
David L. Meyer,
Director of Administration and Management.

[FR Doc. 02-26919 Filed 10-18-02; 10:32 am]

BILLING CODE 4510-43-P